Title 3—

The President

Proclamation 10830 of October 4, 2024

Fire Prevention Week, 2024

By the President of the United States of America

A Proclamation

In the face of incredibly dangerous fires, Americans have always met the moment—whether it is the first responders rushing in to keep everyone safe or the neighborhoods that come together to rebuild from the rubble. During Fire Prevention Week, we encourage all Americans to learn more about fire safety. We recommit to preventing fires before they occur and supporting families affected by fires. And we extend our gratitude to the firefighters and first responders whose extraordinary bravery saves lives.

As President, I have seen the devastating toll fires take on families across the country. I have met with families who lost their homes and small business owners who lost their livelihoods to fires. I have met with firefighters who saved lives while risking their own—some had fought massive wildfires when they had never been trained for that before. This year, more than 1,400 people, including 43 firefighters, lost their lives to fires. And thousands of acres of land have been burned by wildfires—in total, more acres have been burned than the size of some States.

With climate change, these fires will only get more ferocious, deadly, and costly. But my Administration is doing everything we can to fight the climate crisis and keep people safe. That is why I have made the most significant climate investment anywhere in the world. Through my Bipartisan Infrastructure Law, we are investing billions of dollars to strengthen our early wildfire detection programs, prevent and mitigate drought, and—in the event of a wildfire—restore and rehabilitate ecosystems. At the same time, my Inflation Reduction Act is putting us on the path to cut America's carbon emissions in at least half by 2030 with historic investments in green manufacturing, clean energy, and climate-smart agriculture.

My Administration is also committed to ensuring firefighters have the resources and support they need to do their jobs safely and effectively. That is why, in my first months as President, I invested $350 billion from the American Rescue Plan to help States and cities keep first responders, including firefighters, on the job. The law also increased Federal firefighting grants by $300 million, paying for hundreds of emergency response vehicles, thousands of sets of turnout gear, critical cancer research, and more local firefighters in the field. The Department of Labor proposed a rule that would substantially update protections for emergency response workers, including firefighters, for the first time in more than four decades. Further, I am proud to have increased the Federal firefighter minimum wage to $15 an hour—a first step toward giving firefighters the pay they deserve. And we have launched new programs to recruit, retain, and train Federal firefighters. I also signed the Fire Grants and Safety Act, directing millions of dollars to fire stations and communities across the country so they can prevent fires and mitigate the damage if they do occur.

We are also committed to advancing public safety and uplift Fire Prevention Week's theme of “Smoke alarms: Make them work for you!” Smoke alarms are essential to ensuring you and your family can leave home quickly in the event of a fire. Make sure to install smoke alarms in every bedroom, outside each sleeping area, and on every floor of the house. Once a month, remember to test your smoke alarm by pressing the test button. And replace smoke alarms either every 10 years or if they stop responding when tested.

The First Lady and I remain in awe of the heroism and courage of our firefighters and all the communities who have come together to rebuild in the wake of devastating fires—we truly are a good Nation because we are a good people. During Fire Prevention Week, we honor our first responders and firefighters for keeping us safe. We recommit to supporting all Americans rebuilding their lives after a fire. And we spread awareness about smoke alarms and fire safety.

NOW, THEREFORE, I, JOSEPH R. BIDEN JR., President of the United States of America, by virtue of the authority vested in me by the Constitution and the laws of the United States, do hereby proclaim October 6 through October 12, 2024, as Fire Prevention Week. I call on all Americans to participate in this observance with appropriate programs and activities and by renewing their efforts to prevent fires and their tragic consequences.

IN WITNESS WHEREOF, I have hereunto set my hand this fourth day of October, in the year of our Lord two thousand twenty-four, and of the Independence of the United States of America the two hundred and forty-ninth.

[FR Doc. 2024-23455

Filed 10-8-24; 8:45 am]

Billing code 3395-F4-P